DEPARTMENT OF STATE

[Public Notice 3663]

Advisory Committee on Historical Deiplomatic Documentation; Notice of Meeting

The Advisory Committee on Historical Diplomatic Documentation will meet in the Department of State, 2201 “C” Street NW., Washington, DC, June 18-19, 2001 in Conference Room 1107. Prior notification and a valid photo are mandatory for entrance into the building. One week before the meeting, members of the public planning to attend must notify Gloria Walker, Office of the Historian (202-663-1124) to provide dates of birth, Social Security numbers, and telephone numbers.

The Committee will meet in open session from 1:30 p.m. through 3 p.m. on Monday, June 18, 2001, to discuss declassification and transfer of Department of State electronic records to the National Archives and Records Administration and the Foreign Relations series. The remainder of the Committee's sessions from 3:30 p.m. to 4:45 p.m. on Monday, June 18, 2001 and from 9 a.m. to 1 p.m. on Tuesday, June 19, 2001, will be closed in accordance with Section 10(d) of the Federal Advisory Committee Act (Pub. L. 92-463). The agenda calls for discussions of still unresolved options for modernizing the Foreign Relations series as well as agency declassification decisions concerning the series. These are matters not subject to public disclosure under 5 U.S.C. 552b(c)(1), and the public interest requires that such activities be withheld from disclosure.

Questions concerning the meeting should be directed to Marc J. Susser, Executive Secretary, Advisory Committee on Historical Diplomatic Documentation, Department of State, Office of the Historian, Washington, DC 20520, telephone (202) 663-1123, (e-mail history@state.gov).

Dated: May 16, 2001.
Marc J. Susser,
Executive Secretary of the Advisory Committee on Historical Diplomatic Documentation, Department of State.

[FR Doc. 01-13147 Filed 5-23-01; 8:45 am]

BILLING CODE 4710-11-P